DEPARTMENT OF EDUCATION

Office of Elementary and Secondary Education Indian Education—Professional Development Grants

Catalog of Federal Domestic Assistance (CFDA) Number: 84.299B.

ACTION: Correction; Notice inviting applications for new awards for fiscal year (FY) 2010.

SUMMARY: On December 18, 2009, we published in the Federal Register (74 FR 67182) a notice inviting applications for new awards for FY 2010 for the Indian Education—Professional Development Grants. The Intergovernmental Review Deadline date as published on page 67184 is corrected to April 26, 2010. The specific change to be made is as follows:

On page 67184, second column, the date listed for Deadline for Intergovernmental Review is changed to read “April 26, 2010.”

FOR FURTHER INFORMATION CONTACT: Lana Shaughnessy, U.S. Department of Education, Office of Indian Education, 400 Maryland Avenue, SW., Room 3E231, Washington, DC 20202-6135. Telephone: (202) 205-2528, or by e-mail: Lana.Shaughnessy@ed.gov.

If you use a telecommunications device for the deaf (TDD), call the Federal Relay Service (FRS), toll free, at 1-800-877-8339.

Accessible Format: Individuals with disabilities can obtain this document in an accessible format (e.g., braille, large print, audiotape, or computer diskette) on request to the program contact person listed under FOR FURTHER INFORMATION CONTACT in this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: February 3, 2010.
Thelma Meléndez de Santa Ana,
Assistant Secretary for Elementary and Secondary Education.

[FR Doc. 2010-2701 Filed 2-5-10; 8:45 am]

BILLING CODE 4000-01-P